DEPARTMENT OF HEALTH AND HUMAN SERVICES

Administration for Children and Families

Proposed Information Collection Activity; Comment Request

Proposed Projects:

Title: Office of Head Start (OHS) Information Collection Form.

OMB No.: New Collection.

Description: The Head Start Program Performance Standards (45 CFR parts 1304.22(a)(3) and 1306.35(a)(4)(b)(1)) mandate that Head Start programs develop emergency preparedness plans and conduct periodic drills to ensure they have protocols in place, supported by policies and procedures, to ensure they can evacuate Head Start centers in an orderly fashion in the event of a disaster or public health emergency. OHS must ensure that contingency plans are in place prior, during and after a nationally declared disaster; and, that Head Start programs have arrangements (memorandums of understanding) with other community based organizations for shelter in place at alternative locations. The Presidential Policy Directive-8 (PPD-8), which President Obama signed in 2011, provides Federal guidance and planning procedures under established phases—Protection, Preparedness, Response, Recovery, and Mitigation. The data collected in the Information Collection Form addresses the areas of Response and Recovery.

Respondents: Head Start and Early Head Start program grant recipients.

Annual Burden Estimates
Instrument | Number of respondents | Number of responses per respondent | Average burden hours per response (minutes) | Total burden hours (minutes)
OHS Information Collection Form | * 1 | 1 | 30 | 30
* The estimate above is based on a single disaster. The estimate is for a Head Start program with 1 center when all questions are applicable, depending on the type of disaster all questions may not be applicable; therefore the burden hours may be shorter. For Head Start programs with more than 1 center the burden hours may be longer. The number of respondents may increase based on the size of the disaster area.

Estimated Total Annual Burden Hours: 30 Minutes.

An estimate of the number of disasters that would warrant data collection is unavailable due to unpredictable nature of disasters. For example, in 2012, there were 95 disasters nationwide but ACF's Office of Human Services Emergency Preparedness Response did not collect data on all of them because they had minimal effects on ACF programs.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-21137 Filed 9-4-14; 8:45 am]

BILLING CODE 4184-01-P